DEPARTMENT OF THE TREASURY

United States Mint

Notification of Price Decreases for American Eagle Gold and Platinum Coins, American Buffalo Gold Coins, and First Spouse Gold Coins

ACTION: Notification of Price Decreases for American Eagle Gold and Platinum Coins, American Buffalo Gold Coins, and First Spouse Gold Coins.

SUMMARY: The United States Mint is adjusting prices for its American Eagle Gold and Platinum Coins, American Buffalo Gold Coins, and First Spouse Gold Coins.

Pursuant to the authority that 31 U.S.C. 5111(a) and 5112(k) grant the Secretary of the Treasury to mint and issue gold and platinum coins, and to prepare and distribute numismatic items, the United States Mint mints and issues 2008 American Eagle Gold and Platinum Coins, American Buffalo Gold Coins, and First Spouse Gold Coins. In accordance with 31 U.S.C. 9701(b)(2)(B), the United States Mint is changing the price of these coins to reflect decreases in the market price of gold and platinum.

Effective on or about November 14, 2008, the United States Mint will commence selling the following 2008 American Eagle Gold and Platinum Coins, American Buffalo Gold Coins and First Spouse Gold Coins according to the following price schedule:

Product | Price
American Eagle Gold Coins
2008 AMERICAN EAGLE ONE OUNCE GOLD PROOF COIN | $1,024.95
2008 AMERICAN EAGLE ONE-HALF OUNCE GOLD PROOF COIN | 534.95
2008 AMERICAN EAGLE ONE-QUARTER OUNCE GOLD PROOF COIN | 302.45
2008 AMERICAN EAGLE ONE-TENTH OUNCE GOLD PROOF COIN | 162.95
2008 AMERICAN EAGLE GOLD PROOF FOUR-COIN SET | 1,952.45
2008 AMERICAN EAGLE ONE OUNCE GOLD UNCIRCULATED COIN | 974.95
2008 AMERICAN EAGLE ONE-HALF OUNCE GOLD UNCIRCULATED COIN | 509.95
2008 AMERICAN EAGLE ONE-QUARTER OUNCE GOLD UNCIRCULATED COIN | 287.45
2008 AMERICAN EAGLE ONE-TENTH OUNCE GOLD UNCIRCULATED COIN | 154.95
2008 AMERICAN EAGLE GOLD UNCIRCULATED FOUR-COIN SET | 1,862.45
American Eagle Platinum Coins
2008 AMERICAN EAGLE ONE OUNCE PLATINUM PROOF COIN | 1,119.95
2008 AMERICAN EAGLE ONE-HALF OUNCE PLATINUM PROOF COIN | 599.95
2008 AMERICAN EAGLE ONE-QUARTER OUNCE PLATINUM PROOF COIN | 359.95
2008 AMERICAN EAGLE ONE-TENTH OUNCE PLATINUM PROOF COIN | 199.95
2008 AMERICAN EAGLE PLATINUM PROOF FOUR-COIN SET | 2,179.95
2008 AMERICAN EAGLE ONE OUNCE PLATINUM UNCIRCULATED COIN | 1,069.95
2008 AMERICAN EAGLE ONE-HALF OUNCE PLATINUM UNCIRCULATED COIN | 569.95
2008 AMERICAN EAGLE PLATINUM UNCIRCULATED FOUR-COIN SET | 2,089.95
10th ANNIVERSARY PLATINUM SET | 1,249.95
American Buffalo Gold Coins
2008 AMERICAN BUFFALO ONE OUNCE GOLD PROOF COIN | 1,049.95
2008 AMERICAN BUFFALO ONE-HALF OUNCE GOLD PROOF COIN | 549.95
2008 AMERICAN BUFFALO ONE-QUARTER OUNCE GOLD PROOF COIN | 312.45
2008 AMERICAN BUFFALO ONE-TENTH OUNCE GOLD PROOF COIN | 164.95
2008 AMERICAN BUFFALO GOLD PROOF FOUR-COIN SET | 2,005.45
2008 AMERICAN BUFFALO ONE OUNCE GOLD UNCIRCULATED COIN | 999.95
2008 AMERICAN BUFFALO ONE-HALF OUNCE GOLD UNCIRCULATED COIN | 524.95
2008 AMERICAN BUFFALO ONE-QUARTER OUNCE GOLD UNCIRCULATED COIN | 297.45
2008 AMERICAN BUFFALO ONE-TENTH OUNCE GOLD UNCIRCULATED COIN | 158.95
2008 AMERICAN BUFFALO GOLD UNCIRCULATED FOUR-COIN SET | 1,902.45
AMERICAN BUFFALO 2008 CELEBRATION COIN | 968.88
8-8-08 DOUBLE PROSPERITY SET | 1,078.88
First Spouse Gold Coins
2008 FIRST SPOUSE SERIES ONE-HALF OUNCE GOLD PROOF COIN JACKSON'S LIBERTY | 549.95
2008 FIRST SPOUSE SERIES ONE-HALF OUNCE GOLD UNCIRCULATED COIN JACKSON'S LIBERTY | 524.95
2008 FIRST SPOUSE SERIES ONE-HALF OUNCE GOLD PROOF COIN LOUISA ADAMS | 549.95
2008 FIRST SPOUSE SERIES ONE-HALF OUNCE GOLD UNCIRCULATED COIN LOUISA ADAMS | 524.95
2008 FIRST SPOUSE SERIES ONE-HALF OUNCE GOLD PROOF COIN ELIZABETH MONROE | 549.95
2008 FIRST SPOUSE SERIES ONE-HALF OUNCE GOLD UNCIRCULATED COIN ELIZABETH MONROE | 524.95

FOR FURTHER INFORMATION CONTACT: Andrew Brunhart, Deputy Director; United States Mint; 801 Ninth Street, NW.; Washington, DC 20220; or call 202-354-7500.

Authority: 31 U.S.C. 5111, 5112 & 9701.

Dated: November 10, 2008.
Edmund C. Moy,
Director for United States Mint.

[FR Doc. E8-27144 Filed 11-14-08; 8:45 am]

BILLING CODE 4810-02-P